DEPARTMENT OF HOMELAND SECURITY

Coast Guard

33 CFR Part 117

[Docket No. USCG-2011-0597]

Drawbridge Operation Regulations; Cheesequake Creek, Morgan, NJ

AGENCY: Coast Guard, DHS.

ACTION: Notice of temporary deviation from regulations.

SUMMARY: The Commander, First Coast Guard District, has issued a temporary deviation from the regulation governing the operation of the Route 35 Bridge, mile 0.0, across Cheesequake Creek at Morgan, New Jersey. The deviation is necessary to facilitate a public event. This deviation allows the bridge to remain in the closed position for an hour and a half to facilitate a public event.

DATES: This deviation is effective between 11:30 a.m. and 1 p.m. on September 18, 2011.

ADDRESSES: Documents mentioned in this preamble as being available in the docket are part of docket USCG-2011-0597 and are available online at http://www.regulations.gov, inserting USCG-2011-0597 in the “Keyword” and then clicking “Search”. They are also available for inspection or copying at the Docket Management Facility (M-30), U.S. Department of Transportation, West Building Ground Floor, Room W12-140, 1200 New Jersey Avenue, SE., Washington, DC, 20590, between 9 a.m. and 5 p.m., Monday through Friday, except Federal holidays.

FOR FURTHER INFORMATION CONTACT: If you have questions on this rule, call or e-mail Mr. Joe Arca, Project Officer, First Coast Guard District, joe.m.arca@uscg.mil, telephone (212) 668-7165. If you have questions on viewing the docket, call Renee V. Wright, Program Manager, Docket Operations, telephone 202-366-9826.

SUPPLEMENTARY INFORMATION: The Route 35 Bridge, across Cheesequake Creek, mile 0.0, at Morgan, New Jersey, has a vertical clearance in the closed position of 25 feet at mean high water and 30 feet at mean low water. The drawbridge operation regulations are listed at 33 CFR 117.709(a).

The waterway is predominantly used by recreational vessels on a seasonal basis.

The owner of the bridge, the New Jersey Department of Transportation, requested a temporary deviation from the regulations to facilitate a public event, the Rolling Thunder Freedom Ride. The bridge must remain in the closed position to facilitate the above public event.

Under this temporary deviation the Route 35 Bridge may remain in the closed position between 11:30 a.m. and 1 p.m. on September 18, 2011. Vessels that can pass under the bridge in the closed position may do so at any time.

In accordance with 33 CFR 117.35(e), the bridge must return to its regular operating schedule immediately at the end of the designated time period. This deviation from the operating regulations is authorized under 33 CFR 117.35.

Dated: June 27, 2011.
Gary Kassof,
Bridge Program Manager, First Coast Guard District.

[FR Doc. 2011-18224 Filed 7-19-11; 8:45 am]

BILLING CODE 9110-04-P